NATIONAL AERONAUTICS AND SPACE ADMINISTRATION

[Notice 13-061]

NASA Applied Sciences Advisory Committee Meeting

AGENCY: National Aeronautics and Space Administration.

ACTION: Notice of meeting.

SUMMARY: In accordance with the Federal Advisory Committee Act, Public Law 92-463, as amended, the National Aeronautics and Space Administration (NASA) announces a meeting of the Applied Sciences Advisory Committee (ASAC). This Committee functions in an advisory capacity to the Director, Earth Science Division. The meeting will be held for the purpose of soliciting, from the applied sciences community and other persons, scientific and technical information relevant to program planning.

DATES: Thursday, June 20, 2013, 1:00 p.m. to 4:00 p.m., Local Time.

ADDRESSES: This meeting will take place telephonically and by Adobe Connect. Any interested person may call the USA toll free conference call number 800-779-5797 pass code ASAC, to participate in this meeting by telephone. The Adobe Connect link is https://connect.arc.nasa.gov/asac. Enter as a guest using your name.

FOR FURTHER INFORMATION CONTACT: Mr. Peter Meister, Science Mission Directorate, NASA Headquarters, Washington, DC 20546, (202) 358-1557, fax (202) 358-4118, or peter.g.meister@nasa.gov.

SUPPLEMENTARY INFORMATION: The agenda for the meeting includes the following topics:

• Applied Sciences Program Update

• Overview of 2014 Budget

• Highlight from Earth Science Division Senior Review

It is imperative that the meeting be held on this date to accommodate the scheduling priorities of the key participants.

Patricia D. Rausch,
Advisory Committee Management Officer, National Aeronautics and Space Administration.

[FR Doc. 2013-12470 Filed 5-24-13; 8:45 am]

BILLING CODE 7510-13-P